DEPARTMENT OF COMMERCE

International Trade Administration

[A-570-888]

Notice of Amended Final Determination of Sales at Less Than Fair Value and Antidumping Duty Order: Floor-Standing, Metal-Top Ironing Tables and Certain Parts Thereof From the People's Republic of China

AGENCY: Import Administration, International Trade Administration, Department of Commerce.

ACTION: Notice of amended final determination of sales at less than fair value and antidumping duty order.

EFFECTIVE DATE: August 6, 2004.

FOR FURTHER INFORMATION CONTACT: Paige Rivas or Sam Zengotitabengoa, Offcie of AD/CVD Enforcement, Office 4, Import Administration, International Trade Administration, U.S. Department of Commerce, 14th Street and Constitution Avenue, NW., Washington, DC 20230; telephone: (202) 482-0651 or (202) 482-4195, respectively.

SUPPLEMENTARY INFORMATION:

Background

On June 24, 2004, the Department of Commerce (Department) published the notice of final determination of sales at less than fair value for floor-standing, metal-top ironing tables and certain parts thereof (ironing tables) from the People's Republic of China (PRC). See Notice of Final Determination of Sales at Less Than Fair Value: Floor-Standing, Metal-Top Ironing Tables and Certain Parts Thereof from the People's Republic of China, 69 FR 35296 (June 24, 2004) (Final Determination). On July 28, 2004, the International Trade Commission (ITC) notified the Department of its final determination pursuant to section 735(b)(1)(A)(I) of the Tariff Act of 1930, as amended (the Act) that an industry in the United States is materially injured by reason of less than fair value imports of subject merchandise from the PRC.

Scope of the Order

For purposes of this order, the product covered consists of floor-standing, metal-top ironing tables, assembled or unassembled, complete or incomplete, and certain parts thereof. The subject tables are designed and used principally for the hand ironing or pressing of garments or other articles of fabric. The subject tables have full-height leg assemblies that support the ironing surface at an appropriate (often adjustable) height above the floor. The subject tables are produced in a variety of leg finishes, such as painted, plated, or matte, and they are available with various features, including iron rests, linen racks, and others. The subject ironing tables may be sold with or without a pad and/or cover. All types and configurations of floor-standing, metal-top ironing tables are covered by this order.

Furthermore, this order specifically covers imports of ironing tables, assembled or unassembled, complete or incomplete, and certain parts thereof. For purposes of this order, the term “unassembled” ironing table means a product requiring the attachment of the leg assembly to the top or the attachment of an included feature such as an iron rest or linen rack. The term “complete” ironing table means a product sold as a ready-to-use ensemble consisting of the metal-top table and a pad and cover, with or without additional features, e.g. iron rest or linen rack. The term “incomplete” ironing table means a product shipped or sold as a “bare board”—i.e., a metal-top table only, without the pad and cover—with or without additional features, e.g. iron rest or linen rack. The major parts or components of ironing tables that are intended to be covered by this order under the term “certain parts thereof” consist of the metal top component (with or without assembled supports and slides) and/or the leg components, whether or not attached together as a leg assembly. The order covers separately shipped metal top components and leg components, without regard to whether the respective quantities would yield an exact quantity of assembled ironing tables.

Ironing tables without legs (such as models that mount on walls or over doors) are not floor-standing and are specifically excluded. Additionally, tabletop or counter top models with short legs that do not exceed 12 inches in length (and which may or may not collapse or retract) are specifically excluded.

The subject ironing tables were previously classified under Harmonized Tariff Schedule of the United States (HTSUS) subheading 9403.20.0010. Effective July 1, 2003, the subject ironing tables are classified under the new HTSUS subheading 9403.20.0011. The subject metal top and leg components are classified under HTSUS subheading 9403.90.8040. Although the HTSUS subheadings are provided for convenience and customs purposes, the written description of the scope remains dispositive.

Amended Final Determination

On June 24, 2004, in accordance with section 735(a) of the Act, the Department published its final determination that ironing tables from the PRC are being, or are likely to be, sold in the United States at less than fair value. See Final Determination. On June 28, 2004, the petitioner, Home Products International, Inc., filed timely allegations that the Department made ministerial errors in its final determination. The respondents in this case, Since Hardware (Gunagzhou) Co., Ltd. (Since Hardware) and Shunde Yongjian Houseware Co. Ltd. (Yongjian), made no ministerial error allegations. On July 6, 2004, Since Hardware submitted rebuttal comments in response to the allegations made by the petitioner. For a detailed discussion of the Department's analysis of the allegations of ministerial errors, see Memorandum from Holly A. Kuga, Senior Director, Office 4, to Jeffrey May, Deputy Assistant Secretary for Import Administration, Group I, “Allegation of Ministerial Errors,” dated concurrently with this notice. In accordance with 19 CFR 351.224(e), we are amending the Final Determination to correct certain ministerial errors.

The revised final weighted-average dumping margins are as follows:

Manufacturer/exporter | Weighted-average margin (percent)
Since Hardware (Guangzhou) Co., Ltd | 9.47
Shunde Yongjian Housewares Co., Ltd | 157.68
Forever Holdings Ltd | 72.29
Gaoming Lihe Daily Necessities Co., Ltd | 72.29
Harvest International Housewares Ltd | 72.29
PRC-Wide Rate | 157.68

The PRC-wide rate applies to all entries of the subject merchandise except for entries from Since Hardware, Yongjian, Forever Holdings, Harvest International, and Gaoming Lihe.

Antidumping Duty Order

In accordance with section 736(a)(1) of the Act, the Department will direct U.S. Customs and Border Protection (CBP) to assess, upon further advice by the Department, antidumping duties equal to the amount by which the normal value of the merchandise exceeds the export price of the merchandise for all relevant entries of ironing tables from the PRC. For all producers and exporters, antidumping duties will be assessed on all unliquidated entries of subject merchandise that are entered, or withdrawn from warehouse, for consumption on or after February 3, 2004, the date on which the Department published its notice of affirmative preliminary determination in the Federal Register. See Notice of Preliminary Determination of Sales at Less Than Fair Value: Floor-Standing, Metal-Top Ironing Tables and Certain Parts Thereof from the People's Republic of China, 69 FR 5127 (February 3, 2004).

On or after the date of publication of this notice in the Federal Register, CBP must require, at the same time as importers would normally deposit estimated duties, cash deposits for the subject merchandise equal to the estimated weighted-average dumping margins listed above.

This notice constitutes the antidumping duty order with respect to ironing tables from the PRC. Interested parties may contact the Department's Central Records Unit, Room B-099 of the main Commerce building, for copies of an updated list of antidumping duty orders currently in effect.

This order is issued and published in accordance with section 736(a) of the Act and 19 CFR 351.211.

Dated: August 2, 2004.
Joseph A. Spetrini,
Acting Assistant Secretary for Import Administration.

[FR Doc. 04-18040 Filed 8-5-04; 8:45 am]

BILLING CODE 3510-DS-P